SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: October 1-31, 2019.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists GF Registration for projects, described below, pursuant to 18 CFR 806, Subpart E for the time period specified above:

Grandfathering Registration Under 18 CFR Part 806, Subpart E

1. Fairview Golf Course, Inc., GF Certificate No. GF-201910049, West Cornwall Township, Lebanon County, Pa.; On-site Well; Issue Date: October 17, 2019.

2. Hegins-Hubley Authority—Public Water Supply System, GF Certificate No. GF-201910050, Hegins and Hubley Townships, Schuylkill County, Pa.; Wells 1, 2, and 3, and Spring 1; Issue Date: October 17, 2019.

3. T.A. & Son, LLC, GF Certificate No. GF-201910051, Pine Creek Township, Clinton County, Pa.; West Branch Susquehanna River and Pine Creek; Issue Date: October 17, 2019.

Authority: Pub. L. 91-575, 84 Stat. 1509 et seq., 18 CFR parts 806 and 808.

Dated: December 10, 2019.
Jason E. Oyler,
General Counsel and Secretary to the Commission.

[FR Doc. 2019-26926 Filed 12-12-19; 8:45 am]

BILLING CODE 7040-01-P